DEPARTMENT OF THE INTERIOR

Fish and Wildlife Service

Aquatic Nuisance Species Task Force Northeast Regional Panel Meeting

AGENCY: Fish and Wildlife Service, Interior.

ACTION: Notice of meeting.

SUMMARY: This notice announces meeting of the Aquatic Nuisance Species (ANS) Task Force Northeast Regional Panel. The meeting topics are identified in the SUPPLEMENTARY INFORMATION.

DATES: The Northeastern Regional Panel will meet from 12 p.m., to 5:30 p.m. on Monday, November 26, 2001, and 8:30 a.m. to 3 p.m. on Tuesday, November 27, 2001.

ADDRESSES: The Northeast Panel meeting will be held at the Seacoast Science Center, 570 Ocean Blvd., Rye, New Hampshire 03870. Phone (603) 436-8043.

FOR FURTHER INFORMATION CONTACT: Susan Snow-Cotter, 617-626-1202 or Sharon Gross, Executive Secretary, Aquatic Nuisance Species Task Force at 703-358-2308 or by e-mail at: sharon_gross@fws.gov.

SUPPLEMENTARY INFORMATION: Pursuant to section 10(a)(2) of the Federal Advisory Committee Act (5 U.S.C. App. I), this notice announces meetings of the Aquatic Nuisance Species Task Force Northeast Regional Panel. The Task Force was established by the Nonindigenous Aquatic Nuisance Prevention and Control Act of 1990.

The Northeast Regional Panel, established on 25 July 2001, to advise and make recommendations to the Aquatic Nuisance Species Task Force on issues relating to the Northeast region of the United States. Geographically, the northeast region is defined to include the jurisdictions of the states of Maine, New Hampshire, Vermont, Massachusetts, Rhode Island, Connecticut, and New York. The Northeast Panel will, in accordance with Section 1203, invite representatives from Federal, State, and local agencies and from private environmental and commercial interests to:

(a) Identify priorities for the Northeast region with respect to aquatic nuisance species;

(b) Make recommendations to the Task Force regarding programs to carry out Section 1202 of the Nonindigenous Aquatic Nuisance Prevention and Control Act of 1990 (as amended, 1996);

(c) Assist the Task Force in coordinating Federal aquatic nuisance species program activities in the Northeast region;

(d) Coordinate, where possible, aquatic nuisance species program activities in the Northeast region that are not conducted pursuant to the Nonindigenous Aquatic Nuisance Prevention and Control Act of 1990 (as amended, 1996);

(e) Provide advice to public and private individuals and entities concerning methods of preventing and controlling aquatic nuisance species; and

(f) Submit an annual report describing activities within the Northeast region related to aquatic nuisance species prevention, research, and control.

The focus of this meeting will be to: discuss Panel activities, administration and leadership, mission and goals, committee structure, membership, and future workplans.

Minutes of the meeting will be maintained by the Executive Secretary, Aquatic Nuisance Species Task Force, Suite 810, 4401 North Fairfax Drive, Virginia 22203-1622, and will be available for public inspection during regular business hours, Monday through Friday.

Dated: November 7, 2001.
Cathleen I. Short,
Co-Chair, Aquatic Nuisance Species Task Force, Assistant Director—Fisheries & Habitat Conservation.

[FR Doc. 01-28876 Filed 11-16-01; 8:45 am]

BILLING CODE 4310-55-M